DEPARTMENT OF COMMERCE

National Oceanic and Atmospheric Administration

NOAA Coral Ecosystem Research Plan Part II: Regional Priorities Draft

AGENCY: Coral Reef Conservation Program, NOAA, Department of Commerce.

ACTION: Notice and request for public comment.

SUMMARY: The National Oceanic and Atmospheric Administration (NOAA) publishes this notice to announce the availability of the Draft NOAA Coral Ecosystem Research Plan Part II: Regional Priorities for public comment. The Draft NOAA Coral Ecosystem Research Plan is being developed by the NOAA Coral Reef Conservation Program to set priorities and guide NOAA-supported coral ecosystem research for fiscal years 2006 to 2010, including research conducted through extramural partners, grants, and contracts. The Draft NOAA Coral Ecosystem Research Plan covers all coral reef ecosystems under the jurisdiction of the United States and the Pacific Freely Associated States; and is written for a broad audience, including resource managers, scientists, policy makers, and the public.

DATES: Comments on this draft document must be submitted by May 8, 2006.

ADDRESSES: The Draft NOAA Coral Ecosystem Research Plan Part II: Regional Priorities will be available at the following location http://www.nurp.noaa.gov/Docs/NOAA_CoralResearchPlanPartII_FRN.pdf

The public is encouraged to submit comments on the Draft NOAA Coral Ecosystem Research Plan Part II: Regional Priorities electronically to coral.researchplan@noaa.gov. For comments who do not have access to a computer, comments on the document may be submitted in writing to: NOAA Research, c/o Kimberly Puglise, NOAA's Undersea Research Program, 1315 East-West Highway R/NURP, Silver Spring, Maryland 20910.

FOR FURTHER INFORMATION CONTACT: Kimberly Puglise by mail at NOAA's Undersea Research Program, 1315 East-West highway R/NURP, Silver Spring, Maryland 20910 or phone (301) 713-2427 ext. 199 or e-mail at coral.researchplan@noaa.gov.

SUPPLEMENTARY INFORMATION: NOAA is publishing this notice to announce the availability of the Draft NOAA Coral Ecosystem Research Plan Part II: Regional Priorities for public comment. The draft plan will be posted for public comment on April 7, 2006. All interested parties are encouraged to provide comments. The Draft NOAA Coral Ecosystem Research Plan Part II: Regional Priorities is being issued for comment only and is not intended for interim use. Suggested changes will be incorporated, where appropriate, in the final version.

The Draft NOAA Coral Ecosystem Research Plan is being developed by the NOAA Coral Reef Conservation Program to set priorities and guide NOAA-supported coral ecosystem research for fiscal years 2006 to 2010, including research conducted through extramural partners, grants, and contracts. The Draft NOAA Coral Ecosystem Research Plan covers all coral reef ecosystems under the jurisdiction of the United States and the Pacific Freely Associated States; and is written for a broad audience, including resource managers, scientists, policy makers, and the public.

The Draft NOAA Coral Ecosystem Research Plan consists of two sections: (1) Part I: National Priorities; and (2) Part II: Regional Priorities. At this time, we are requesting your comments solely on the Part II: Regional Priorities Draft.

Part I of the Plan is national in scope and identifies: the role of research in management, including a review of the major stressors and threats facing coral reef ecosystems and an overview of stressor-associated research priorities; the role of mapping and monitoring in management-driven research programs; a discussion of the tools and technologies necessary to conduct research and to manage ecosystems; a discussion of the importance of transferring science and technology into operations; and the importance of using strategic outreach and education to translate research results to improve management decisions.

Part II of the Plan is regional in scope and reviews the major stressors for coral ecosystems in each region under the jurisdiction of the United States and the Pacific Freely Associated States; identifies key management objectives specific to each region; and the research priorities for fiscal years 2006 to 2010 to help address the stated management objectives in each region. Part II is divided into the following regions: Florida with subsections for the Florida Keys, Southeast Florida, and the West Florida Shelf (also known as the Eastern Gulf of Mexico); Flower Garden Banks; Puerto Rico; the U.S. Virgin Islands; Navassa Island; the Hawaiian Islands with subsections for the Main and Northwestern Hawaiian Islands; American Samoa; the Commonwealth of the Northern Marianas Islands; Guam; the U.S. Pacific Remote Insular Areas, which includes Midway Atoll, Rose Atoll, Wake Atoll, Johnston Atoll, Kingman Reef, Palmyra Atoll, Jarvis Island, Howland Island, and Baker Island; and the Pacific Freely Associated States with subsections for the Republic of the Marshall Islands, the Republic of Palau, and the Federated States of Micronesia.

NOAA welcomes all comments on the content of the Draft NOAA Coral Ecosystem Research Plan Part II: Regional Priorities. We also request comments on any inconsistencies perceived within the document, and possible omissions of important topics or issues. For any shortcoming noted within the draft documents, please propose specific remedies.

Please adhere to the instructions detailed below for preparing and submitting your comments on the Draft NOAA Coral Ecosystem Research Plan Part II: Regional Priorities. Using the format guidance described below will facilitate the processing of reviewer comments and assure that all comments are appropriately considered. Please format your comments into the following three sections: (1) Background information about yourself (optional); (2) overview or general comments; and (3) specific comments. Section one may include background information about yourself including: your name(s), organization(s), area(s) of expertise, and contact information, such as mailing address, telephone and fax numbers, and e-mail address(s). Section two should consist of overview or general comments on the document and should be numbered. Section three should consist of comments that are specific to particular pages, paragraphs, or lines in the document and should identify the page and line numbers to which they apply. Please number and print identifying information at the top of all pages.

Public comments may be submitted from April 7, 2006, through May 8, 2006.

Dated: April 3, 2006.
David Kennedy,
Manager, Coral Reef Conservation Program.

[FR Doc. 06-3339 Filed 4-6-06; 8:45 am]

BILLING CODE 3510-JE-M